COMMISSION ON CIVIL RIGHTS

Sunshine Act Notice

AGENCY: U.S. Commission on Civil Rights.

Date and Time: Friday, October 8, 2004, 9:30 a.m.

Place: U.S. Commission on Civil Rights, 624 9th Street, NW., Room 540, Washington, DC 20425.

Status:

Agenda

I. Approval of Agenda

II. Approval of Minutes of September 17, 2004 Meeting

III. Announcements

IV. Staff Director's Report

V. State Advisory Committee Appointments for Montana, North Dakota, Ohio, Utah, and Washington

VI. “Redefining Rights in America: The Civil Rights Record of the George W. Bush Administration, 2001-2004” Report

VII. Future Agenda Items

11 a.m. Briefing on Voting and Election Reform: Is America Ready to Vote?

FOR FURTHER INFORMATION CONTACT: Les Jin, Press and Communications (202) 376-7700.

Debra A. Carr,
Deputy General Counsel.

[FR Doc. 04-22301 Filed 9-29-04; 4:30 pm]

BILLING CODE 6335-01-M